DEPARTMENT OF THE INTERIOR

Bureau of Ocean Energy Management

[MMAA 104000]

Outer Continental Shelf (OCS), Gulf of Mexico (GOM), Oil and Gas Lease Sales, Central Planning Area (CPA) Lease Sales 235, 241, and 247

AGENCY: Bureau of Ocean Energy Management (BOEM), Interior.

ACTION: Notice of Availability (NOA) of a Draft Supplemental Environmental Impact Statement (EIS) and Public Meetings.

Authority: This NOA is published pursuant to the regulations (40 CFR 1503) implementing the provisions of the National Environmental Policy Act of 1969, as amended (42 U.S.C. 4321 et seq.) (NEPA).

SUMMARY: BOEM has prepared a Draft Supplemental EIS for proposed OCS oil and gas Lease Sales 235, 241, and 247, which are tentatively scheduled to be held in March 2015, 2016, and 2017, respectively, in the CPA offshore the States of Louisiana, Mississippi, and Alabama. This Draft Supplemental EIS updates the environmental and socioeconomic analyses for proposed CPA Lease Sales 235, 241, and 247 in the Gulf of Mexico OCS Oil and Gas Lease Sales: 2012-2017; Western Planning Area Lease Sales 229, 233, 238, 246, and 248; Central Planning Area Lease Sales 227, 231, 235, 241, and 247, Final Environmental Impact Statement (OCS EIS/EA BOEM 2012-019) (2012-2017 WPA/CPA Multisale EIS) and in the Gulf of Mexico OCS Oil and Gas Lease Sales: 2013-2014; Western Planning Area Lease Sale 233; Central Planning Area Lease Sale 231, Final Supplemental Environmental Impact Statement (OCS EIS/EA BOEM 2013-0118) (WPA 233/CPA 231 Supplemental EIS). The 2012-2017 WPA/CPA Multisale EIS was completed in July 2012. The WPA 233/CPA 231 Supplemental EIS was completed in April 2013.

SUPPLEMENTARY INFORMATION: BOEM developed this Draft Supplemental EIS for proposed CPA Lease Sales 235, 241, and 247 to consider new information made available since completion of the 2012-2017 WPA/CPA Multisale EIS and WPA 233/CPA 231 Supplemental EIS, and to consider, among others, new information on the Deepwater Horizon explosion, oil spill, and response. This Draft Supplemental EIS provides updates on the baseline conditions and potential environmental effects of oil and natural gas leasing, exploration, development, and production in the CPA. BOEM conducted an extensive search for new information in consideration of the Deepwater Horizon explosion, oil spill, and response, reviewing scientific journals and available scientific data and information from academic institutions and Federal, State, and local agencies; and interviewing personnel from academic institutions and Federal, State, and local agencies. BOEM has examined the potential impacts of routine activities and accidental events and the proposed lease sales' incremental contribution to the cumulative impacts on environmental and socioeconomic resources. The oil and gas resource estimates and scenario information for this Draft Supplemental EIS are presented as a range that would encompass the resources and activities estimated for a proposed CPA lease sale.

Draft Supplemental EIS Availability: BOEM has printed and will distribute a limited number of paper copies. In keeping with the Department of the Interior's mission to protect natural resources and to limit costs while ensuring availability of the document to the public, BOEM will primarily distribute digital copies of this Draft Supplemental EIS on compact discs. However, if you require a paper copy, BOEM will provide one upon request if copies are still available.

1. You may obtain a copy of the Draft Supplemental EIS from the Bureau of Ocean Energy Management, Gulf of Mexico OCS Region, Public Information Office (GM 335A), 1201 Elmwood Park Boulevard, Room 250, New Orleans, Louisiana 70123-2394 (1-800-200-GULF).

2. You may download or view the Draft Supplemental EIS on BOEM's Internet Web site at http://www.boem.gov/Environmental-Stewardship/Environmental-Assessment//.aspx.

Several libraries along the Gulf Coast have been sent copies of the Draft Supplemental EIS. To find out which libraries have copies of the Draft Supplemental EIS for review, you may contact BOEM's Public Information Office or visit BOEM's Internet Web site at http://www.boem.gov/Environmental-Stewardship/Environmental-Assessment/NEPA/nepaprocess.aspx.

Comments: Federal, State, and local government agencies and other interested parties are requested to send their written comments on the Draft Supplemental EIS in one of the following ways:

1. In an envelope labeled “Comments on the CPA 235, 241, and 247 Draft Supplemental EIS” and mailed (or hand carried) to Mr. Gary D. Goeke, Chief, Environmental Assessment Section, Office of Environment (GM 623E), Bureau of Ocean Energy Management, Gulf of Mexico OCS Region, 1201 Elmwood Park Boulevard, New Orleans, Louisiana 70123-2394;

2. Through the regulations.gov web portal: Navigate to http://www.regulations.gov and search for “Oil and Gas Lease Sales: Gulf of Mexico, Outer Continental Shelf; Central Planning Area Lease Sales 235, 241, and 247”. (Note: It is important to include the quotation marks in your search terms.) Click on the “Comment Now!” button to the right of the document link. Enter your information and comment, then click “Submit”; or

3. BOEM's email address: cpa235@boem.gov.

Comments should be submitted no later than 45 days from the publication of this NOA.

Public Meetings: BOEM will also hold public meetings to obtain comments regarding the Draft Supplemental EIS. These meetings are scheduled as follows:

• New Orleans, Louisiana: April 7, 2014, Bureau of Ocean Energy Management, 1201 Elmwood Park Boulevard, New Orleans, Louisiana 70123, one meeting beginning at 1:00 p.m. CDT.

• Gulfport, Mississippi: April 8, 2014, Courtyard by Marriott Gulfport Beachfront MS Hotel, 1600 East Beach Boulevard, Gulfport, Mississippi 39501; one meeting beginning at 1:00 p.m. CDT; and

• Mobile, Alabama: April 9, 2014, Five Rivers—Alabama's Delta Resource Center, 30945 Five Rivers Boulevard, Spanish Fort, Alabama 36527; one meeting beginning at 1:00 p.m. CDT.

FOR FURTHER INFORMATION CONTACT: For more information on the Draft Supplemental EIS, you may contact Mr. Gary D. Goeke, Bureau of Ocean Energy Management, Gulf of Mexico OCS Region, Office of Environment (GM 623E), 1201 Elmwood Park Boulevard, New Orleans, Louisiana 70123-2394 or by email at cpa235@boem.gov. You may also contact Mr. Goeke by telephone at (504) 736-3233.

Public Disclosure of Names and Addresses

BOEM does not consider anonymous comments; please include your name and address as part of your submittal. BOEM makes all comments, including the names and addresses of respondents, available for public review during regular business hours. Individual respondents may request that BOEM withhold their names and/or addresses from the public record; however, BOEM cannot guarantee that we will be able to do so. If you wish your name and/or address to be withheld, you must state your preference prominently at the beginning of your comment. All submissions from organizations or businesses and from individuals identifying themselves as representatives or officials of organizations or businesses will be made available for public inspection in their entirety.

Dated: March 14, 2014.
Tommy P. Beaudreau,
Director, Bureau of Ocean Energy Management.

[FR Doc. 2014-06297 Filed 3-21-14; 8:45 am]

BILLING CODE 4310-MR-P